DEPARTMENT OF THE INTERIOR

Fish and Wildlife Service

[FWS-HQ-IA-2014-N248; FXIA16710900000-156-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Permit No. | Applicant | Receipt of application Federal Register notice | Permit issuance date
Endangered Species
37543B | Byron Wates | 79 FR 39409; July 10, 2014 | September 16, 2014.
40316B | Ramon Gonzalez | 79 FR 52038; September 2, 2014 | September 2, 2014.
39418B | Exotic Feline Breeding Compound Inc | 79 FR 52038; September 2, 2014 | November 25, 2014.
43610B | Exotic Feline Breeding Compound Inc | 79 FR 52038; September 2, 2014 | November 25, 2014.
43611B | Exotic Feline Breeding Compound Inc | 79 FR 52038; September 2, 2014 | November 25, 2014.
42019B | Byron Christie | 79 FR 52038; September 2, 2014 | November 25, 2014.
27473B | Ryan Blakley | 79 FR 57968; September 26, 2014 | November 17, 2014.
43444B | William Farrar | 79 FR 57968; September 26, 2014 | November 25, 2014.
43445B | Robert Brocchini | 79 FR 57968; September 26, 2014 | November 25, 2014.
43448B | Richard Lane | 79 FR 57968; September 26, 2014 | November 25, 2014.
187330 | University of Illinois-Zoological Pathology Program | 79 FR 60182; October 6, 2014 | November 10, 2014.
42307B | Lions, Tigers & Bears | 79 FR 62662; October 20, 2014 | November 20, 2014.
Marine Mammals
067116 | University of Florida, Aquatic Animal Health Program | 79 FR 48244; August 15, 2014 | November 10, 2014.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2014-28480 Filed 12-3-14; 8:45 am]

BILLING CODE 4310-55-P